DEPARTMENT OF EDUCATION

Notice of Submission for OMB Review; Office of Special Education and Rehabilitative Services; Grantee Reporting Form—Rehabilitation Services Administration (RSA) Annual Payback Report

SUMMARY: The Annual Payback Report collects data on the status of “current” and “exited” RSA scholars who are/were the recipients of scholarships. The information collected will provide performance data relevant to the rehabilitation fields and degrees pursued by RSA scholars, as well as the fund owed and the rehabilitation work completed by them.

DATES: Interested persons are invited to submit comments on or before October 15, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04877. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Grantee Reporting Form—Rehabilitation Services Administration (RSA) Annual Payback Report.

OMB Control Number: 1820-0617.

Type of Review: Revision.

Total Estimated Number of Annual Responses: 350.

Total Estimated Number of Annual Burden Hours: 350.

Abstract: Under section 302 of the Rehabilitation Act of 1973, as amended (Act), RSA has the authority to provide financial assistance, through academic institutions, to students seeking a career in rehabilitative services. Students who receive scholarships under this program are required to work within the public rehabilitation program, such as with a state vocational rehabilitation agency, or an agency or organization that has a service arrangement with a state vocational rehabilitation agency. The student is expected to work two years in such settings for every year of full-time scholarship support.

Section 302 (b)(2)(C) of the Act requires the academic institutions (i.e., grantees) that administer a RSA Long-Term Training program to track the employment status and location of former scholars supported under their grants in order to ensure that students are meeting the payback requirement. Program regulations at 34 CFR 386.34 require each grantee to establish and maintain a tracking system on current and former RSA scholars for this purpose.

Dated: September 10, 2012.
Darrin A. King,
Director, Information Collection Clearance Division, Privacy, Information and Records Management Services, Office of Management.

[FR Doc. 2012-22633 Filed 9-13-12; 8:45 am]

BILLING CODE 4000-01-P